DEPARTMENT OF AGRICULTURE

Submission for OMB Review; Comment Request

May 8, 2000.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), Washington, DC 20503 and to Departmental Clearance Office, USDA, OCIO, Mail Stop 7602, Washington, DC 20250-7602. Comments regarding these information collections are best assured of having their full effect if received within 30 days of this notification. Copies of the submission(s) may be obtained by calling (202) 720-6746.

An agency may not conduct or sponsor a collection of information unless the collection of information displays a currently valid OMB control number and the agency informs potential persons who are to respond to the collection of information that such persons are not required to respond to the collection of information unless it displays a currently valid OMB control number.

Food and Nutrition Service

Title: FNS Nutrition Education and Promotion Campaign.

OMB Control Number: 0584-NEW.

Summary of Collection: The mission of FNS includes improving the eating habits of the nation's children. To that end, FNS plans to launch a five-year national nutrition education and promotion campaign targeting preschool and school-aged children and their caregivers. Section 6(a)(3) of the Richard B. Russell National School Lunch Act provides the authority for educating USDA School Lunch Program participants about nutrition. The campaign will employ social marketing techniques to convey motivational and behavior-focused messages about healthy eating and physical activity to FNS program participants. FNS will collect information using focus group discussion sessions and semi-structured interviews.

Need and Use of the Information: The information collected will provide FNS with insights on how best to reach and motivate preschool and school-aged children and their caregivers to make behavioral changes consistent with the new Dietary Guidelines for Americans. The information will be used to determine those messages and materials that best resonate with the target audience. If information is not collected, valuable consumer input from FNS' culturally and ethnically diverse low-income population would not be obtained.

Description of Respondents: Individuals or household; Not-for-profit institutions; Federal Government; State, Local, or Tribal Government.

Number of Respondents: 288.

Frequency of Responses: Reporting: Other (One-time/Focus Groups).

Total Burden Hours: 293.

Farm Service Agency

Title: Noninsured Crop Disaster Assistance Program.

OMB Control Number: 0560-0175.

Summary of Collection: The collection of crop planting and production data is necessary for the Commodity Credit Corporation (CCC) to calculate the producer's approved yield on the basis of actual production history. Information collection relative to the occurrence of crop damage or loss production and application for Noninsured Crop Disaster Assistance Program (NAP) is necessary for CCC to accept and consider a request for assistance under NAP and to facilitate eligibility determinations. Assistance under the NAP is authorized by Section 196 of the Federal Agriculture Improvement and Reform Act of 1996 and implemented by regulations at 7 CFR part 1437. NAP provides eligible producers of eligible crops with protection to the catastrophic risk protection plan of crop insurance. It helps reduce production risks faced by producers of crops for which Federal crop insurance is not available. It also reduces financial losses that occur when natural disasters cause a catastrophic loss of production or prevented planting of an eligible crop. The Farm Service Agency (FSA) will collect information using forms CCC-451, CCC-576, CCC-441, CCC-576-1 and CCC-452.

Need and Use of the Information: FSA will collect the producer's name, address, identification number, farm and tract, acreage, ownership, location, crop history, planted acreage, production, yield, share, etc. The information will be used to identify eligible NAP participants, acreage and location, crop and commodities. If information is not collected FSA will not be able to identify and determine eligible participants and crops being planted or produced, or provide assistance to agricultural producers who as a result of natural disaster have suffered catastrophic losses of agricultural crops of commodities.

Description of Respondents: Individuals or household; Business or other for-profit; Not-for-profit institutions; Farms.

Number of Respondents: 497,000.

Frequency of Responses: Recordkeeping; Reporting: On occasion; Other (disaster).

Total Burden Hours: 4,605,088.

Foreign Agricultural Service

Title: Declaration of Sale.

OMB Control Number: 0551-0009.

Summary of Collection: Title I of the Agricultural Trade Development and Assistance Act of 1954, as amended, (Public Law 480 (P.L. 480), 83rd Congress) provides for U.S. government financing of sales of U.S. agricultural commodities to friendly foreign countries. Within the U.S. government, the Foreign Agricultural Service (FAS) of the Department of Agriculture (USDA) is responsible for administering Title I agreements. After a Pub. L. 480, Title I agreement is signed, the government of the importing country requests FAS to issue a purchase authorization (PA). After receiving USDA price approval (based on the information provided in the telephonic notice of sale) and after a Commodity Credit Corporation (CCC) registration number for the sale has been provided to the supplier, the supplier prepares Form FAS-359, “Declaration of Sale” and submits it to FAS. The form should contain the same information that was provided in the telephonic notice of sale.

Need and Use of the Information: FAS will collect the name and address of the supplier, date and time of the sale, contract quantity and tolerance, delivery period and terms, price, commodity description, port or coast of export and supplier's contract number.

Description of Respondents: Business or other for-profit.

Number of Respondents: 15.

Frequency of Responses: Reporting: On occasion.

Total Burden Hours: 22.25.

Foreign Agricultural Service

Title: Regulations—Financing Commercial Sales of Agricultural Commodities Under Title I, P.L. 480—Recordkeeping and Reporting Requirements

OMB Control Number: 0551-0005.

Summary of Collection: Title I of the Agricultural Trade Development and Assistance Act of 1954, as amended, (Public Law 480 (P.L. 480), 83rd Congress) authorizes the Commodity Credit Corporation (CCC) to finance the sale and exportation of agricultural commodities on concessional credit terms. Prospect commodity suppliers must provide information to the Department to determine eligibility. Commodity supplier must report details of sales for price approval and to submit to USDA, Foreign Agricultural Services (FAS), for approval, information on any amendments to the sales. Shipping agents nominated by importing countries must submit information to allow identification of possible conflicts of interest.

Need and Use of the Information: FAS will collect information to insure that (1) suppliers keep accurate records on Title 1 transactions; (2) suppliers permit access to authorized USDA representatives (such as auditors and investigators); and, (3) suppliers retain records for three years after final payment. FAS will review the sales prices to ensure that it is within the prevailing range of export market prices use the information. If the information were not collected FAS would not be able to monitor the sales made under P.L. 480, Title I to ensure that they comply with the regulations and that available funds have not been exceeded.

Description of Respondents: Business or other for-profit.

Number of Respondents: 65.

Frequency of Responses: Recordkeeping; Reporting: On occasion.

Totla Burden Hours: 423.

Agricultural Marketing Service

Title: Winter Pears Grown in Oregon, Washington, and California, marketing Order No. 927.

OMB Control Number: 0581-0089.

Summary of Collection: Marketing Order No 927 (7 CFR Part 927), covering winter pears grown in Oregon, Washington, and California emanates from enabling legislation (the Agricultural Marketing Agreement Act of 1937, Secs, 1-19 Stat. 31 as amended; 7 U.S.C. 601-674). Growers approved the marketing order in referendum, as specified by the Act. The order authorizes the issuance of grade, size, quantity, inspection, and reporting requirements for any variety of winter pears. The Agricultural Marketing Service (AMS) will collect information using form FV-22, FB-119, FV-119A, and FV-120.

Needs and use of the Information: AMS will collect information to allow growers to vote on amendments or continuance of the marketing order.

Description Of Respondents: Business or other for-profit; Farms.

Number of Respondents: 1,890.

Frequency of Responses: Recordkeeping; Reporting: On occasion; Biennially.

Total Burden Hours: 3,567.

Rural Utilities Service

Title: Certification of Authority.

OMB Control Number: 0572-0074.

Summary of Collection: The Rural Utilities Service (RUS) is a credit agency of the U.S. Department of Agriculture (USDA). It makes mortgage loans and loan guarantees to finance electric, telecommunications, and water and waste facilities in rural areas. Rural Electrification Act of 1936, 7 U.S.C. 901 et seq., as amended, (RE ACT) and as prescribed by Office of Management and Budget (OMB) Circular A-129, Policies for Federal Credit Programs and Non-Tax Receivables, which states that agencies must, based on a review of a loan application, determine that an applicant complies with statutory, regulatory, and administrative eligibility requirements for loan assistance. A major factor in managing loan programs is controlling the advancement of funds. RUS Form 675 allows this control to be achieved by providing a list of authorized signatures against which signatures requesting funds are compared.

Need and Use of the Information: RUS will collect information to ensure that only authorized representatives of the borrowers signs the lending requisition form. Without the information RUS would not know if the request for a loan advance was legitimate or not and so the potential for waste, loss, unauthorized use, and misappropriation would be increased.

Description of Respondents: Not-for-profit institutions; Business or other for-profit.

Number of Respondents: 450.

Frequency of Responses: Reporting: On occasion.

Total Burden Hours: 45.

Natural Resources Conservation Service

Title: Long Term Contracting.

OMB Control Number: 0578-0013.

Summary of Collection: The Long Term Contracting regulations at 7 CFR Part 630, and the Conservation program regulations at 7 CFR Parts 622, 624, 631, 632, 634, 636, 701, 702, 752, 1410, and 1467 set forth the basic policies, program provisions, and eligibility requirements for owners and opertors to enter into and carry out long-term conservation program contracts with technical assistance under the various program. These programs authorize federal technical and financial long-term cost sharing assistance for conservation treatment with eligible land users. The financial assistance is based on a conservation plan, which is made a part of an agreement or contract for a period of not less than five years to not more than 15 years. Under the terms of the agreement, the participant agrees to apply, or arrange to apply, the conservation treatment specified in the conservation plan. In return for this agreement, federal cost-share payments are made to the land user, or third party, upon successful application of the conservation treatment. The Natural Resource and Conservation Service (NRCS) will collect information using several NRCS forms.

Need and Use of the Information: NRCS will collect information on cost sharing and technical assistance, making land use changes and install measure to conserve, develop and utilize soil, water, and related natural resources on participant's land. NRCS uses the information to ensure the proper utilization of program funds.

Description of Respondents: Farms; Individuals or households; Not-for-profit institutions; State, Local or Tribal Government.

Number of Respondents: 198,517.

Frequency of Responses: Reporting: Annually.

Total Burden Hours: 162,388.8.

Barbara LaCour,
Departmental Clearance Officer.

[FR Doc. 00-11923 Filed 5-11-00; 8:45 am]

BILLING CODE 3410-01-M